DEPARTMENT OF COMMERCE

National Institute of Standards and Technology

National Institute of Standards and Technology Performance Review Board Membership

AGENCY: National Institute of Standards and Technology, Department of Commerce.

ACTION: Notice.

SUMMARY: This notice lists the membership of the National Institute of Standards and Technology Performance Review Board (NIST PRB) and supersedes the list published on September 26, 2022.

DATES: The changes to the NIST PRB membership list announced in this notice are effective September 25, 2023.

FOR FURTHER INFORMATION CONTACT: Didi Hanlein, (240) 449-6356 or by email at desiree.hanlein@nist.gov or Amy Laughter, (202) 845-5196 or by email at amy.laughter@nist.gov at the National Institute of Standards and Technology.

SUPPLEMENTARY INFORMATION: The National Institute of Standards and Technology Performance Review Board (NIST PRB or Board) reviews performance appraisals, agreements, and recommended actions pertaining to employees in the Senior Executive Service and Senior Professional employees. The Board makes recommendations to the appropriate appointing authority concerning such matters so as to ensure the fair and equitable treatment of these individuals.

This notice lists the membership of the NIST PRB and supersedes the list published in the Federal Register on September 26, 2022 (87 FR 58312).

NIST PRB Members

Mojdeh Bahar (C) (alternate), Associate Director for Innovation and Industry Services, National Institute of Standards & Technology, Gaithersburg, MD 20899, Appointment Expires: 12/31/24

Hannah Brown (C) (alternate), Deputy Associate Director for Laboratory Programs, National Institute of Standards & Technology, Gaithersburg, MD 20899, Appointment Expires: 12/31/25

Marla Dowell (C), Director, CHIPS R&D Metrology Program, National Institute of Standards & Technology, Boulder, CO 80305, Appointment Expires: 12/31/24

Robert Fangmeyer (C) (alternate), Director, Baldrige Performance Excellence Program, Department of Commerce, Gaithersburg, MD 20899, Appointment Expires: 12/31/24

John (JD) Grom (NC), Senior Advisor to the Chief of Staff, National Institute of Standards & Technology, Washington, DC 20230, Appointment Expires: 12/31/25

Paula Patrick (C), Strategic Advisor to Enterprise Services, Department of Commerce, Washington, DC 20230, Appointment Expires: 12/31/24

Chandan Sastry (C), Chief Information Officer for NIST, National Institute of Standards & Technology, Gaithersburg, MD 20899, Appointment Expires: 12/31/25

Authority: 5 U.S.C. 4301 et seq.

Alicia Chambers,
NIST Executive Secretariat.

[FR Doc. 2023-20633 Filed 9-22-23; 8:45 am]

BILLING CODE 3510-13-P